DEPARTMENT OF TRANSPORTATION

Coast Guard

[USCG-2002-12763]

Towing Safety Advisory Committee

AGENCY: Coast Guard, DOT.

ACTION: Notice of meeting.

SUMMARY: The Towing Safety Advisory Committee's (TSAC) Working Group on Regulation Review will meet to discuss various issues relating to current U.S. Coast Guard regulations as they pertain to towing vessels. The meeting will be open to the public.

DATES: The TSAC Working Group will meet on Tuesday, August 13, 2002, from 1 p.m. to 4 p.m. and on the following day, Wednesday, August 14, 2002, from 8 a.m. to 12 noon. The meeting may close early if all business is finished. Written material and requests to make oral presentations should reach the Coast Guard on or before August 12, 2002. Requests to have a copy of your material distributed to each member of the Working Group should reach the Coast Guard on or before August 7, 2002.

ADDRESSES: The Working Group will meet in room 1103, U.S. Coast Guard Headquarters, 2100 Second Street SW., Washington, DC. Send written material and requests to make oral presentations to Mr. Gerald P. Miante, Commandant (G-MSO-1), Room 1210, U.S. Coast Guard Headquarters, 2100 Second Street SW., Washington, DC 20593-0001. This notice is available on the Internet at http://dms.dot.gov.

FOR FURTHER INFORMATION CONTACT: Mr. Gerald P. Miante, Assistant Executive Director of TSAC, telephone 202-267-0221, or fax 202-267-4570.

SUPPLEMENTARY INFORMATION: Notice of the meeting is given under the Federal Advisory Committee Act, 5 U.S.C. App. 2.

Agenda of Meeting

The agenda tentatively includes the following:

1. Review current U.S. Coast Guard regulatory requirements pertaining to uninspected towing vessels;

2. Assess the adequacy of these existing regulations;

3. Identify any gaps in these regulations and research where else those gaps may be addressed— such as in voluntary or non-regulatory programs; and

4. Ascertain the best method to address any gaps not addressed in regulatory or non-regulatory products.

Procedural

The meeting is open to the public. Please note that the meeting may close early if all business is finished. At the Chair's discretion, members of the public may make oral presentations during the meeting. If you would like to make an oral presentation at the meeting, please notify the Assistant Executive Director no later than August 12, 2002. Written material for distribution at the meeting should reach the Coast Guard no later than August 7, 2002. If you would like a copy of your material distributed to each member of the committee in advance of the meeting, please submit 15 copies to Mr. Gerald P. Miante at the address in ADDRESSES no later than August 7, 2002.

Information on Services for Individuals With Disabilities

For information on facilities or services for individuals with disabilities or to request special assistance at the meeting, contact the Assistant Executive Director as soon as possible.

Dated: July 11, 2002.
Howard L. Hime,
Acting Director of Standards, Marine Safety, Security and Environmental Protection.

[FR Doc. 02-18216 Filed 7-18-02; 8:45 am]

BILLING CODE 4910-15-P